Proclamation 10277 of October 1, 2021

Child Health Day, 2021

By the President of the United States of America

A Proclamation

Nothing is more vital to our country's future than our children's health and well-being. Each year on Child Health Day, we reaffirm our commitment to ensuring that every child in America has equal access to quality and affordable health care, child care, and education so that they can thrive and reach their full potential.

The COVID-19 pandemic has had a profound negative impact on the health and well-being of our Nation's children. A year of isolation from friends, extended family, and daily activities due to school closures and remote learning, as well as the loss of loved ones to the pandemic, has taken a tremendous toll on their mental health—and caused significant learning loss that may never be fully redressed. Families are also finding it harder to support their children during the pandemic, with many struggling to pay for expenses such as food, rent, health care, and transportation. And as scientists rigorously and independently review COVID-19 vaccines for children under age 12, too many of our kids returning to school—and the families they return to at the end of each school day—face unnecessary risks because there are not universal masking policies.

We owe it to our children to do everything in our power to support their safe and healthy development. Because our Nation's schools play a critical role in safeguarding our children's health and well-being, my Administration has made it a top priority to ensure that all students can access full-time, in-person instruction so that they can achieve their highest aspirations. My American Rescue Plan continues to deliver for schools—including $130 billion to ensure that every child can safely access full-time, in-person instruction and that schools can mitigate the risk of COVID-19 in the classroom. My Administration is committed to supporting school-based health programs, which is why my American Rescue Plan also provides States and school districts with billions of dollars for schools to bring on additional nurses, counselors, social workers, and more to address student needs, allowing teachers to stay focused on teaching. To further support children's success in school, I strongly encourage families to visit their pediatric providers for well-child visits and immunizations—including the COVID-19 vaccine for children age 12 and up.

My American Rescue Plan is also delivering critical resources to address the mental health needs of children, including $1.5 billion to support the Community Mental Health Services Block Grant, which provides much needed services to children with serious emotional disturbances. The law also provides $20 million to support youth suicide prevention and $30 million to expand Project AWARE, which supports wellness and resiliency programs in educational settings. It has invested $80 million to expand the Pediatric Mental Health Care Access Program, which provides telehealth services for children and adolescents with mental health conditions identified during routine visits, making mental health care more accessible nationwide, including for young people in Tribal and remote areas.

Additionally, the American Rescue Plan continues to deliver pandemic relief to families through a $150 million investment in the Maternal, Infant, and Early Childhood Home Visiting Program to improve maternal and child health. The law also provides funding to support families with essential emergency supplies, including diapers, food, water, and hand sanitizer. Finally, the American Rescue Plan is lowering health insurance premiums for millions of Americans—positioning us to cut child poverty in America by nearly half.

We need to invest in the healthy development of all our children—and that means helping parents with the costs of raising a family. That is why my Administration worked hard to expand the Child Tax Credit, which is putting money directly in the pockets of families with children each month to help pay for food, rent, a new pair of kids' shoes, or whatever else working parents need.

On Child Heath Day, we recommit ourselves to ensuring that our children can live long and healthy lives. Together, we can help all of our Nation's children stay healthy and learn, develop, and grow up to reach their full potential.

The Congress, by a joint resolution approved May 18, 1928, as amended (36 U.S.C. 105), has called for the designation of the first Monday in October as Child Health Day and has requested that the President issue a proclamation in observance of this day.

NOW, THEREFORE, I, JOSEPH R. BIDEN JR., President of the United States of America, by the virtue of the authority vested in me by the Constitution and the laws of the United States, do hereby proclaim Monday, October 4, 2021, as Child Health Day. I call upon families, child health professionals, faith-based and community organizations, and governments to help ensure that America's children stay safe and healthy.

IN WITNESS WHEREOF, I have hereunto set my hand this first day of October, in the year of our Lord two thousand twenty-one, and of the Independence of the United States of America the two hundred and forty-sixth.

[FR Doc. 2021-21956

Filed 10-5-21; 8:45 am]

Billing code 3395-F2-P